DEPARTMENT OF COMMERCE

National Oceanic and Atmospheric Administration

Evaluation of State Coastal Management Programs

AGENCY: Office for Coastal Management (OCM), National Ocean Service (NOS), National Oceanic and Atmospheric Administration (NOAA), Department of Commerce (DOC).

ACTION: Notice of public meeting.

SUMMARY: The National Oceanic and Atmospheric Administration (NOAA), Office for Coastal Management will hold a public meeting to solicit comments as part of the performance evaluation of the Delaware Coastal Management Program.

DATES: Delaware Management Program Evaluation: The public meeting will be held on May 20, 2019, and written comments must be received on or before May 31, 2019.

For specific dates, times, and locations of the public meetings, see SUPPLEMENTARY INFORMATION.

ADDRESSES: You may submit comments on the coastal program NOAA intends to evaluate by any of the following methods:

Public Meeting and Oral Comments: A public meeting will be held in Dover, Delaware. For the specific location, see SUPPLEMENTARY INFORMATION.

Written Comments: Please direct written comments to Carrie Hall, Evaluator, Planning and Performance Measurement Program, Office for Coastal Management, NOS/NOAA, 1305 East-West Highway, 11th Floor,N/OCM1, Silver Spring, Maryland 20910, or email comments Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, by phone at (240) 533-0730 or email comments to Carrie.Hall@noaa.gov. Copies of the previous evaluation findings and 2016-2020 Assessment and Strategy may be viewed and downloaded on the internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state and territorial coastal programs. The process includes one or more public meetings, consideration of written public comments, and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

You may participate or submit oral comments at the public meeting scheduled as follows:

Date: May 20, 2019.

Time: 5:30 p.m., local time.

Location: State Street Commons, Department of Natural Resources and Environmental Control, State Street Commons Training Room (First Floor), 100 W. Water Street, Suite 6A, Dover, Delaware 19904.

Written public comments must be received on or before May 31, 2019.

Dated: April 25, 2019.
Keelin Kuipers,
Acting Director, Office for Coastal Management, National Ocean Service, National Oceanic and Atmospheric Administration.

(Federal Domestic Assistance Catalog 11.419

Coastal Zone Management Program Administration)

[FR Doc. 2019-09023 Filed 5-2-19; 8:45 am]

BILLING CODE 3510-08-P